NATIONAL SCIENCE FOUNDATION

Sunshine Act Meetings; National Science Board

The National Science Board, pursuant to NSF regulations (45 CFR part 614), the National Science Foundation Act, as amended (42 U.S.C. 1862n-5), and the Government in the Sunshine Act (5 U.S.C. 552b), hereby gives notice of the scheduling of meetings for the transaction of National Science Board business, as follows:

Date and Time: September 19, 2013 from 8:00 a.m. to 11:00 a.m. and from 4:00 p.m. to 4:15 p.m.

Place: The morning meeting will be held at the University of Washington, Odegaard Undergraduate Library, Room 220, 4060 George Washington Lane, Seattle, Washington 98195. It is open to the public. The afternoon meeting will be held at the University of Washington, Gerberding Hall. This meeting is closed to the public.

Status: Portion open; portion closed.

ADDITIONAL INFORMATION: Please refer to the National Science Board Web site (http://www.nsf.gov/nsb/notices/) for additional information and schedule updates, or contact Jennie Moehlmann, jmoehlma@nsf.gov, or (703) 292-7000. The Public Affairs contact is Dana Topousis, dtopousi@nsf.gov, (703) 292-7750.

Plenary Board Meeting Agenda

Open Session: 8:00-11:00 a.m.

• Chairman's introduction and welcome from the University of Washington

• Presentations and Panel Discussion: “The Future of Advanced Cyberinfrastructure for Science and Engineering, Research and Education.” Moderator, Dr. Kelvin Droegemeier, NSB Vice-chairman.

• Chairman's remarks

Plenary Executive Closed Session: 4:00-4:15 p.m.

• Chairman's remarks

• Nominations Committee recommendations

Meeting Adjourns: 4:15 p.m.

Ann Bushmiller,
Senior Counsel to the National Science Board.

[FR Doc. 2013-22590 Filed 9-12-13; 4:15 pm]

BILLING CODE 7555-01-P